FEDERAL RETIREMENT THRIFT INVESTMENT BOARD

Sunshine Act Meeting

TIME AND DATE: 9 a.m. (EDT), June 16, 2003.

PLACE: 4th Floor, Conference Room, 1250 H Street, NW., Washington, DC

STATUS: Parts will be open to the public and parts closed to the public.

MATTERS TO BE CONSIDERED:

Parts Open to the Public

1. Approval of minutes of the May 12, 2003, Board member meeting.

2. Executive Director's report.

3. Semiannual Report of status of audit recommendations.

4. Status of new record keeping system.

Parts Closed to the Public

5. Discussion of litigation matters.

6. Discussion of personnel matters.

FOR FURTHER INFORMATION CONTACT: Thomas J. Trabucco, Director, Office of External Affairs, (202) 942-1640.

Thomas K. Emswiler,
Associate General Counsel, Federal Retirement Thrift Investment Board.

[FR Doc. 03-14358 Filed 6-3-03; 3:29 p.m.]

BILLING CODE 6760-01-M